DEPARTMENT OF THE INTERIOR

National Park Service

[NPS-WASO-NAGPRA-NPS0025827; PPWOCRADN0-PCU00RP14.R50000]

Notice of Intent To Repatriate Cultural Items: U.S. Department of the Interior, National Park Service, Grand Canyon National Park, Grand Canyon, AZ

AGENCY: National Park Service, Interior.

ACTION: Notice.

SUMMARY: The U.S. Department of the Interior, National Park Service, Grand Canyon National Park, in consultation with the appropriate Indian Tribes or Native Hawaiian organizations, has determined that the cultural items listed in this notice meet the definition of unassociated funerary objects. Lineal descendants or representatives of any Indian Tribe or Native Hawaiian organization not identified in this notice that wish to claim these cultural items should submit a written request to Grand Canyon National Park. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to Grand Canyon National Park at the address in this notice by August 13, 2018.

ADDRESSES: Christine Lehnertz, Superintendent, Grand Canyon National Park, P.O. Box 129, Grand Canyon, AZ 86023, telephone (928) 638-7945, email chris_lehnertz@nps.gov.

SUPPLEMENTARY INFORMATION: Notice is here given in accordance with the Native American Graves Protection and Repatriation Act (NAGPRA), 25 U.S.C. 3005, of the intent to repatriate cultural items under the control of Grand Canyon National Park, Grand Canyon, AZ, that meet the definition of unassociated funerary objects under 25 U.S.C. 3001.

This notice is published as part of the National Park Service's administrative responsibilities under NAGPRA, 25 U.S.C. 3003(d)(3). The determinations in this notice are the sole responsibility of the Superintendent, Grand Canyon National Park.

History and Description of the Cultural Items

In 1935, three cultural items were removed from GC 62 in Coconino County, AZ, during a vegetation project by the Works Progress Administration and the National Park Service. The three objects were kept by Claude A. Wagner Jr. until 1974 when he donated them to Grand Canyon National Park. The three unassociated funerary objects are one copper bracelet and two metal bells.

GC 62 is described as a cremation site, about six feet in diameter with evidence of a large fire. No human remains were collected from GC 62. The site is located in an area traditionally used by the Havasupai Tribe and cremation was a Havasupai burial practice. The Havasupai Tribal Council has identified the items as likely coming from a tribal cremation.

Determinations Made by Grand Canyon National Park

Officials of Grand Canyon National Park have determined that:

• Pursuant to 25 U.S.C. 3001(3)(B), the three cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Havasupai Tribe of the Havasupai Reservation, Arizona.

Additional Requestors and Disposition

Lineal descendants or representatives of any Indian Tribe or Native Hawaiian organization not identified in this notice that wish to claim these cultural items should submit a written request with information in support of the claim to Christine Lehnertz, Superintendent, Grand Canyon National Park, P.O. Box 129, Grand Canyon, AZ 86023, telephone (928) 638-7945, email chris_lehnertz@nps.gov, by August 13, 2018. After that date, if no additional claimants have come forward, transfer of control of the unassociated funerary objects to the Havasupai Tribe of the Havasupai Reservation, Arizona may proceed.

Grand Canyon National Park is responsible for notifying the Havasupai Tribe of the Havasupai Reservation, Arizona that this notice has been published.

Dated: June 18, 2018.
Melanie O'Brien,
Manager, National NAGPRA Program.

[FR Doc. 2018-14902 Filed 7-11-18; 8:45 am]

BILLING CODE 4312-52-P